DEPARTMENT OF LABOR

Employment and Training Administration

[TA-W-58,576]

Chemical Products Corporation, Cartersville, GA; Notice of Termination of Investigation

Pursuant to section 221 of the Trade Act of 1974, as amended, an investigation was initiated on January 4, 2006 in response to a worker petition filed by a company official on behalf of workers at Chemical Products Corporation, Cartersville, Georgia.

The petitioner has requested that the petition be withdrawn. Consequently, the investigation has been terminated.

Signed at Washington, DC, this 17th day of January 2006
Richard Church,
Certifying Officer, Division of Trade Adjustment Assistance.

[FR Doc. E6-1143 Filed 1-27-06; 8:45 am]

BILLING CODE 4510-30-P